DEPARTMENT OF THE TREASURY

Customs Service

[T.D. 01-93]

Revocation of Customs Broker Licenses

AGENCY: U.S. Customs Service, Department of the Treasury.

ACTION: Customs broker license revocations.

SUMMARY: Pursuant to section 641 of the Tariff Act of 1930 as amended (19 USC 1641) and the Customs Regulations (19 CFR 111), the following Customs broker licenses are revoked. Please be aware that some of these entities may continue to provide broker services under another valid brokerage license.

Name | License | Port
Behring International, Inc | 06434 | Seattle.
Consolidated Freightways Export-Import Services, Inc | 07687 | Seattle.
Ingham International, Inc | 05252 | Seattle.
Ted L. Rauch, Inc | 06656 | Seattle.
Steeb Marine Services, Inc | 05768 | Seattle.
Carmichael International Services | 09143 | Seattle.
Emery Customs Brokers | 05614 | Seattle.
Kuehne & Nagel, Inc | 06558 | Seattle.
David K. Lindemuth Co., Inc | 07601 | Seattle.
Radix Group International | 07500 | Seattle.

Dated: December 17, 2001.
Bonni G. Tischler,
Assistant Commissioner, Office of Field Operations.

[FR Doc. 01-31387 Filed 12-19-01; 8:45 am]

BILLING CODE 4820-02-P